DEPARTMENT OF TRANSPORTATION

Office of the Secretary

Aviation Proceedings, Agreements Filed the Week Ending July 25, 2003

The following Agreements were filed with the Department of Transportation under the provisions of 49 U.S.C. 412 and 414. Answers may be filed within 21 days after the filing of the application.

Docket Number: OST-2003-15787.

Date Filed: July 25, 2003.

Parties: Members of the International Air Transport Association.

Subject: Mail Vote 315 PTC2 ME 0127 dated 25 July 2003 r1-r15; Minutes—PTC2 ME 0128 dated 25 July 2003; Tables—PTC2 Fares 0046 dated 25 July 2003; Intended effective date: 1 January 2004.

Andrea M. Jenkins,
Program Manager, Docket Operations, Federal Register Liaison.

[FR Doc. 03-20416 Filed 8-8-03; 8:45 am]

BILLING CODE 4910-62-P